DEPARTMENT OF THE TREASURY

Office of Foreign Assets Control

Notice of OFAC Sanctions Actions

AGENCY: Office of Foreign Assets Control, Treasury.

ACTION: Notice.

SUMMARY: The Department of the Treasury's Office of Foreign Assets Control (OFAC) has removed from OFAC's Specially Designated Nationals and Blocked Persons List (SDN List) the names of persons whose property and interests in property had been blocked pursuant to Burundi sanctions authorities.

DATES: See Supplementary Information section for effective date(s).

FOR FURTHER INFORMATION CONTACT: OFAC: Andrea Gacki, Director, tel.: 202-622-2490; Associate Director for Global Targeting, tel.: 202-622-2420; Assistant Director for Sanctions Compliance & Evaluation, tel.: 202-622-2490; Assistant Director for Licensing, tel.: 202-622-2480; or Assistant Director for Regulatory Affairs, tel.: 202-622-4855.

SUPPLEMENTARY INFORMATION:

Electronic Availability

The SDN List and additional information concerning OFAC sanctions programs are available on OFAC's website (www.treasury.gov/ofac).

Notice of OFAC Actions

Effective November 18, 2021, Executive Order (E.O.) 13712 of November 22, 2015, “Blocking Property of Certain Persons Contributing to the Situation in Burundi” was revoked pursuant to “Executive Order on the Termination of Emergency With Respect To the Situation in Burundi of November 18, 2021.” As a result of the revocation of E.O. 13712, effective November 18, 2021, the persons listed below are no longer subject to the blocking provisions in E.O. 13712, and therefore were removed from the SDN List.

Individuals

1. NDIRAKOBUCA, Gervais (a.k.a. NDIRAKOBUCHA, Gervais; a.k.a. “Ndakugarika”), Burundi; DOB 01 Aug 1970; nationality Burundi; Passport DP0000761; General; Chief of Staff, Ministry of Public Security; Chief of Cabinet for Police Affairs; Burundian National Police Chief of Cabinet (individual) [BURUNDI].

2. NGENDABANKA, Marius, Kinanira IV, Kinindo, Bujumbura, Burundi; DOB 25 Aug 1974; nationality Burundi; Gender Male; Commander, First Military Region; Deputy Chief of Land Forces; Burundian National Defense Forces Deputy Commander of Operations (individual) [BURUNDI].

3. NGENDAKUMANA, Leonard; DOB 24 Nov 1968; nationality Burundi; Passport DP0000885; General; Burundian National Intelligence Service (SNR) Cabinet Chief (former) (individual) [BURUNDI].

4. NIYONZIMA, Joseph (a.k.a. NIJONZIMA, Joseph; a.k.a. NIYONZIMA, Mathias; a.k.a. NIYONZIMA, Salvator; a.k.a. “Kazungu”); DOB 02 Jan 1967; alt. DOB 06 Mar 1956; POB Kanyosha Commune, Mubimbi, Bujumbura-Rural Province, Burundi (individual) [BURUNDI].

5. NSHIMIRIMANA, Edouard; DOB 1970; POB Bugeni Vyanda, Burundi; nationality Burundi; Passport 089567 (Burundi) issued 10 Feb 2006 expires 10 Feb 2011; Former Lieutenant Colonel (individual) [BURUNDI].

6. SIBOMANA, Ignace; DOB 01 Jan 1972; POB Buhina, Kanyosha, Bujumbura, Burundi; nationality Burundi; Gender Male; Burundian Army Colonel, Chief of Military Intelligence (individual) [BURUNDI].

7. SINDUHIJE, Alexis (a.k.a. SINHUHIJE, Alexis); DOB 05 May 1967; alt. DOB 05 May 1966; POB Kamenge, Bujumbura, Burundi; nationality Burundi; Gender Male (individual) [BURUNDI].

Dated: November 18, 2021.
Bradley T. Smith,
Acting Director, Office of Foreign Assets Control, U.S. Department of the Treasury.

[FR Doc. 2021-25542 Filed 11-22-21; 8:45 am]

BILLING CODE 4810-AL-P